DEPARTMENT OF LABOR

Employment and Training Administration

[TA-W-72,510]

JELD-WEN Millwork Distribution, Wilkesboro, NC; Notice of Affirmative Determination Regarding Application for Reconsideration

By application dated February 3, 2010, the petitioner requested administrative reconsideration of the negative determination regarding workers' eligibility to apply for Trade Adjustment Assistance (TAA) applicable to workers and former workers of the subject firm. The Notice of negative determination was issued on January 11, 2010 and published in the Federal Register on February 16, 2010 (75 FR 7039). The workers produce wooden exterior door frames.

The initial investigation resulted in a negative determination based on the findings that there was no increase in imports of like or directly competitive articles by either the subject firm or its customers, and no shift to/acquisition from a foreign country by the workers' firm of production of like or directly competitive articles. The investigation also revealed that the subject firm did not produce a component part that was used by a firm that employed workers eligible to apply for TAA and used the component parts in the production of the article that was the basis for the certification.

The workers, in the request for reconsideration, state that subject firm's competitors and customer have increased imports of like or directly competitive articles from China. The workers also allege that the articles produced at the subject firm include door component parts (“door jambs, door T-AST, door mull posts”) and window component parts (“replacement window grills”), and that those articles are being imported from China.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26898 Filed 10-22-10; 8:45 am]

BILLING CODE 4510-FN-P